DEPARTMENT OF ENERGY

Federal Energy Regulatory Commission

Combined Notice of Filings #1

Take notice that the Commission received the following electric rate filings:

Docket Numbers: ER15-1861-000.

Applicants: Tucson Electric Power Company.

Description: Report Filing: Refund Report to be effective N/A.

Filed Date: 11/23/16.

Accession Number: 20161123-5137.

Comments Due: 5 p.m. ET 12/14/16.

Docket Numbers: ER15-1862-000.

Applicants: Tucson Electric Power Company.

Description: Report Filing: Refund Report to be effective N/A.

Filed Date: 11/23/16.

Accession Number: 20161123-5141.

Comments Due: 5 p.m. ET 12/14/16.

Docket Numbers: ER17-414-000.

Applicants: Avista Corporation.

Description: Tariff Cancellation: Avista Corp Cancellation of Various Rate Schedules to be effective 11/25/2016.

Filed Date: 11/23/16.

Accession Number: 20161123-5175.

Comments Due: 5 p.m. ET 12/14/16.

Docket Numbers: ER17-415-000.

Applicants: California Independent System Operator Corporation.

Description: § 205(d) Rate Filing: 2016-11-23 Amdt—Implement Administrative Pricing Policy & Tariff Clarification to be effective 2/1/2017.

Filed Date: 11/23/16.

Accession Number: 20161123-5185.

Comments Due: 5 p.m. ET 12/14/16.

Docket Numbers: ER17-416-000.

Applicants: California Independent System Operator Corporation.

Description: § 205(d) Rate Filing: 2016-11-22 PMin Re-Rate Consistency Amendment to be effective 2/1/2017.

Filed Date: 11/25/16.

Accession Number: 20161125-5003.

Comments Due: 5 p.m. ET 12/16/16.

Docket Numbers: ER17-417-000.

Applicants: Avista Corporation.

Description: Notice of Cancellation of Rate Schedule No. 105 of Avista Corporation.

Filed Date: 11/23/16.

Accession Number: 20161123-5196.

Comments Due: 5 p.m. ET 12/14/16.

Take notice that the Commission received the following qualifying facility filings:

Docket Numbers: QF17-312-000.

Applicants: Brigham Young University.

Description: Form 556 of Brigham Young University [Provo].

Filed Date: 11/22/16.

Accession Number: 20161122-5143.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 25, 2016.
Nathaniel J. Davis, Sr.,
Deputy Secretary.

[FR Doc. 2016-28836 Filed 11-30-16; 8:45 am]

BILLING CODE 6717-01-P